FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 2073F.

Name: Aero Sea Shipping Co., Inc.

Address: 580 Sylvan Avenue, Englewood Cliffs, NJ 07632.

Date Revoked: December 12, 2003.

Reason: Failed to maintain a valid bond.

License Number: 16914NF.

Name: Air Sea Cargo Network, Inc.

Address: 33511 Western Avenue, Union City, CA 94587.

Date Revoked: January 1, 2004.

Reason: Failed to maintain valid bonds.

License Number: 16254N.

Name: China United Transport, Inc.

Address: 17890 Castleton Street, Suite 220, City of Industry, CA 91748.

Date Revoked: January 14, 2004.

Reason: Failed to maintain a valid bond.

License Number: 18140N.

Name: Commonwealth Custom Broker, Inc. dba C.C.B. Logistics dba C.C.B. Terminal.

Address: 8100 NW. 29th Street, Miami, FL 33122.

Date Revoked: January 13, 2004.

Reason: Failed to maintain a valid bond.

License Number: 15871N.

Name: Continental Shipping Line, Inc.

Address: 168 SE. 1st Street, Suite 601, Miami, FL 33131.

Date Revoked: December 31, 2003.

Reason: Failed to maintain a valid bond.

License Number: 17642F.

Name: Direct Shipping, Corp. dba Direct Shipping Line.

Address: 1371 South Santa Fe Avenue, Compton, CA 90221.

Date Revoked: November 5, 2003.

Reason: Failed to maintain a valid bond.

License Number: 17305N.

Name: Distribution Support Systems, Inc.

Address: 6454 East Taft Road, East Syracuse, NY 13057.

Date Revoked: January 14, 2004.

Reason: Surrendered license voluntarily.

License Number: 13882N.

Name: East-West Consolidation Service, Inc.

Address: 214 Bald Eagle Drive, Somerville, NJ 08876.

Date Revoked: January 17, 2004.

Reason: Failed to maintain a valid bond.

License Number: 3134F.

Name: Enterprise Forwarders, Inc.

Address: 2350 NW. 93rd Avenue, Miami, FL 33172.

Date Revoked: December 12, 2003.

Reason: Failed to maintain a valid bond.

License Number: 16597N.

Name: First Forward International Services, Inc. dba First Forward Container Line.

Address: 8915 S. La Cienega Blvd., Unit D, Inglewood, CA 90301.

Date Revoked: January 11, 2004.

Reason: Failed to maintain a valid bond.

License Number: 3366F.

Name: International Consulting and Services, Inc.

Address: 550 North Military Avenue, Suite 8, Green Bay, WI 54303.

Date Revoked: December 6, 2003.

Reason: Failed to maintain a valid bond.

License Number: 17064N.

Name: International Transport Solutions, Inc.

Address: 145-69 226th Street, Jamaica, NY 11413.

Date Revoked: December 8, 2003.

Reason: Surrendered license voluntarily.

License Number: 17310N.

Name: J.M.C. Transport Corporation.

Address: 9133 South La Cienega Blvd., Suite 120, Inglewood, CA. 90301

Date Revoked: December 4, 2003.

Reason: Failed to maintain a valid bond.

License Number: 17177F.

Name: Kito Electronics Limited Company dba Kito Cargo.

Address: 10530 NW. 37th Terrace, Miami, FL 33178.

Date Revoked: December 28, 2003.

Reason: Failed to maintain a valid bond.

License Number: 829F.

Name: Leyden Shipping Corporation.

Address: 30 Vesey Street, New York, NY 10002.

Date Revoked: December 23, 2003.

Reason: Failed to maintain a valid bond.

License Number: 4478F.

Name: Marina Ocean Air International, LLC.

Address: P.O. Box 1906, So. San Francisco, CA 94083.

Date Revoked: October 15, 2003.

Reason: Surrendered license voluntarily.

License Number: 18026N.

Name: Mirsonia, Inc.

Address: 1515 S. Maple Avenue, Suite 5, Los Angeles, CA 90015.

Date Revoked: December 14, 2003.

Reason: Failed to maintain a valid bond.

License Number: 512F.

Name: Nordstrom Freighting Corporation.

Address: 100 Mill Plain Road, Danbury, CT 06811.

Date Revoked: December 4, 2003.

Reason: Failed to maintain a valid bond.

License Number: 16561N.

Name: Palumbo USA Inc.

Address: 1099 Wall Street West, Suite 395, Lyndhurst, NJ 07071.

Date Revoked: December 31, 2003.

Reason: Surrendered license voluntarily.

License Number: 3762NF.

Name: Savino Del Bene, Inc.

Address: 149-10 183rd Street, Jamaica Queens, NY 11413.

Date Revoked: December 10, 2003.

Reason: Surrendered license voluntarily.

License Number: 17053F.

Name: Top Container Line Inc.

Address: 2131 W. Willow Street, Suite 200, Long Beach, CA 90810.

Date Revoked: November 8, 2003.

Reason: Surrendered license voluntarily.

License Number: 16772N.

Name: Trans Pacific Inc.

Address: Puchi Bldg., 4th Fl., 19-1 Tsukishima, 1-Chome Chuo-Ku, Tokyo, Japan.

Date Revoked: October 21, 2003.

Reason: Surrendered license voluntarily.

License Number: 15097N.

Name: United Globe Cargo, Inc.

Address: 2142 NW. 99th Avenue, Miami, FL 33172.

Date Revoked: December 14, 2003.

Reason: Failed to maintain a valid bond.

Sandra L. Kusumoto,
Director, Bureau of Consumer Complaints and Licensing.

[FR Doc. 04-1806 Filed 1-27-04; 8:45 am]

BILLING CODE 6730-01-P